NUCLEAR REGULATORY COMMISSION

Invitation to Join an Agencywide Document Access and Management System (ADAMS) User Group

AGENCY: Nuclear Regulatory Commission.

ACTION: Invitation to join an ADAMS User Group.

SUMMARY: The Nuclear Regulatory Commission (NRC) is asking interested members of the public who use the Agencywide Document Access and Management System (ADAMS) to join an ADAMS User Group. In addition to learning about new releases and upgrades of the ADAMS software, the user group will serve as a forum for two-way communication with NRC staff concerning ADAMS experiences, suggestions, and comments on making ADAMS more accessible and easier to use. Although a schedule has not been set for future meetings, the user group is expected to meet approximately four times a year. The user group will be formed at a meeting at the NRC headquarters Wednesday, July 18, 2001 from 1 p.m. to 3 p.m..

EFFECTIVE DATE: July 18, 2001.

FOR FURTHER INFORMATION CONTACT: Thomas E. Smith, Acting Chief, Public Document Room, Office of the Chief Information Officer, Nuclear Regulatory Commission, Washington, DC 20555, 301-415-7204, or toll-free 1-800-368-5642 or, 1-800-397-4209 (8:30 a.m.-4:15 p.m.).

SUPPLEMENTARY INFORMATION: The Nuclear Regulatory Commission plans to start an ADAMS User Group as a forum for ADAMS users. NRC staff will inform the user group about new ADAMS releases and future upgrades, and anticipates the user group will give staff feedback and suggest ways of making ADAMS more accessible and usable. For example, the user group could provide input on such issues as the NRC plans to develop a Web-based version of ADAMS as well as the matters related to the Legacy Library.

The July 18, 2001 formative meeting of the ADAMS User Group will be held at NRC headquarters in Rockville, MD, to survey the needs of the members, discuss issues and potential resolutions, and set a schedule for future meetings. Since many people who might like to participate cannot come to Rockville to attend the meeting, the NRC is making arrangements for interested parties to submit questions in advance as well as obtain information about the proceedings via email. The NRC will also have a toll-free telephone bridge so interested persons can dial into the meetings. The telephone bridge will accommodate 20 to 30 parties on a first-come, first-serve basis. Participation instructions will be sent to persons who respond to this announcement.

CONTACT: If you are interested in joining this user group, please contact Thomas Smith at 301-415-7204,or toll free 1-800-368-5642 or e-mail aug@nrc.gov. Further instructions will be sent to you by e-mail or telephone.

Dated in Rockville, Maryland, this 19th day of June 2001.
For the Nuclear Regulatory Commission.
Lynn B. Scattolini,
Director, Information, Records and Document Management Division, Office of the Chief Information Officer.

[FR Doc. 01-16098 Filed 6-26-01; 8:45 am]

BILLING CODE7590-01-P